DEPARTMENT OF TRANSPORTATION

Federal Aviation Administration

Notice of Intent to Rule on Application (01-03-C-00-GUC) to Impose and Use the Revenue From a Passenger Facility Charge (PFC) at Gunnison County Airport, Submitted by the County of Gunnison, Gunnison, Colorado

AGENCY: Federal Aviation Administration (FAA), DOT.

ACTION: Notice of Intent to Rule on Application.

SUMMARY: The FAA proposes to rule and invites public comment on the application to impose and use PFC revenue at Gunnison County Airport under the provisions of 49 U.S.C. 40117 and Part 158 of the Federal Aviation Regulations (14 CFR 158).

DATES: Comments must be received on or before December 11, 2000.

ADDRESSES: Comments on this application may be mailed or delivered in triplicate to the FAA at the following address: Mr. Alan Wiechmann, Manager, Denver Airports District Office; Federal Aviation Administration; 26805 E. 68th Avenue, Suite 224; Denver, CO 80249-6361.

In addition, one copy of any comments submitted to the FAA must be mailed or delivered to Mr. Rex A. Tippetts, Airport Manager, at the following address: 711 Rio Grande Avenue, Building B, Gunnison, Colorado 81230.

Air Carriers and foreign air carriers may submit copies of written comments previously provided to Gunnison County Airport, under section 158.23 of Part 158.

FOR FURTHER INFORMATION CONTACT: Mr. Chris Schaffer, (303) 342-1258, 26805 E. 68th Avenue, Suite 224; Denver, CO 80249-6361. The application may be reviewed in person at this same location.

SUPPLEMENTARY INFORMATION: The FAA proposes to rule and invites public comment on the application 01-03-C-00-GUC to impose and use PFC revenue at Gunnison County Airport, under the provisions of 49 U.S.C. 40117 and Part 158 of the Federal Aviation Regulations (14 CFR Part 158).

On November 1, 2000, the FAA determined that the application to impose and use the revenue from a PFC submitted by Gunnison County Airport, Gunnison, Colorado, was substantially complete within the requirements of § 158.25 of Part 158. The FAA will approve or disapprove the application, in whole or in part, no later than January 30, 2001.

The following is a brief overview of the application.

Level of the proposed PFC: $4.50.

Proposed charge-effective date: April 1, 2001.

Proposed charge-expiration date: June 1, 2003.

Total requested for use approval: $480,667.

Brief description of proposed project: Land acquisition (Wilson property); Land acquisition (Bratton property); Perimeter fencing; Aircraft rescue and fire fighting vehicle; Design for D-IV safety area standards; Design and construction of I-Bar Road.

Class or classes of air carriers which the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue S.W., Suite 315, Renton, WA 98055-4056.

In addition, any person may, upon request, inspect the application, notice and other documents germane to the application in person at the Gunnison County Airport.

Issued in Renton, Washington on November 1, 2000.
David A. Field,
Manager, Planning, Programming and Capacity Branch, Northwest Mountain Region.

[FR Doc. 00-28734 Filed 11-8-00; 8:45 am]

BILLING CODE 4910-13-M